DEPARTMENT OF VETERANS AFFAIRS

[OMB Control No. 2900-0198]

Agency Information Collection Activity Under OMB Review: Application for Annual Clothing Allowance

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently Under 30-day Review—Open for Public Comments” or by using the search function. Refer to “OMB Control No. 2900-0198.

FOR FURTHER INFORMATION CONTACT: Maribel Aponte, Office of Enterprise and Integration, Data Governance Analytics (008), 1717 H Street NW, Washington, DC 20006, (202) 266-4688 or email maribel.aponte@va.gov. Please refer to “OMB Control No. 2900-0198” in any correspondence.

SUPPLEMENTARY INFORMATION: Authority: 44 U.S.C. 3501-21.

Title: Application for Annual Clothing Allowance, VA Form 10-8678.

OMB Control Number: 2900-0198.

Type of Review: Reinstatement of a previously approved collection.

Abstract: The Department of Veterans Affairs (VA) through its Veterans Health Administration (VHA) administers an integrated program of benefits and services, established by law for veterans, service personnel, and their dependents and/or beneficiaries. Information is requested by this form under the authority of 38 U.S.C., Section 1162, Clothing Allowance, which provides authority for the Secretary to pay a clothing allowance to veterans who, because of a service-connected disability, wear or use a prosthetic or orthopedic appliance (including a wheelchair) which tends to wear out or tear clothing or uses medication that causes irreparable damage to the outer garments. Entitlement to this benefit is granted by 38 CFR 3.810, Clothing Allowance, upon application by the eligible individual. VA Form 10-8678 is used to collect the necessary information to determine if the veteran has established entitlement to a clothing allowance payment.

An agency may not conduct or sponsor, and a person is not required to respond to a collection of information unless it displays a currently valid OMB control number. The Federal Register Notice with a 60-day comment period soliciting comments on this collection of information was published at 87 FR 194 on October 7, 2022, pages 61148 and 61149.

Affected Public: Individuals or Households.

Estimated Annual Burden: 1,120 hours.

Estimated Average Burden per Respondent: 10 minutes.

Frequency of Response: Once annually.

Estimated Number of Respondents: 6,720.

By direction of the Secretary.
Dorothy Glasgow,
VA PRA Clearance Officer, (Alt.) Office of Enterprise and Integration, Data Governance Analytics, Department of Veterans Affairs.

[FR Doc. 2022-27094 Filed 12-13-22; 8:45 am]

BILLING CODE 8320-01-P